DEPARTMENT OF ENERGY

Federal Energy Regulatory Commission

[Project No. 2197-035; North Carolina]

Yadkin, Inc.; Notice of Public Meeting

February 9, 2000.

Staff from the Federal Energy Regulatory Commission (Commission) will hold a public meeting on March 27, 2000 to take oral comments on a draft environmental assessment (DEA) issued for the Yadkin Hydroelectric Project. The DEA analyzes the environmental impacts of a Shoreline Management Plan (SMP) filed for Commission approval. The Yadkin Project is located on the Yadkin-Pee Dee River in Montgomery, Stanly, Davidson and Rowan Counties, North Carolina. The Yadkin Project contains the following reservoirs: High Rock, Tuckertown, Narrows (Badin) and Falls.

The DEA was written by staff in the Commission's Office of Hydropower Licensing. Commission staff believe the SMP would not constitute a major federal action significantly affecting the quality of the human environment. Copies of the DEA can be viewed on the web at www.ferc.fed.us/online/rims.htm. Call (202) 208-2222 for assistance. Copies are also available for inspection and reproduction at the Commission's Public Reference Room located at 888 First Street, NE., Room 2A, Washington, DC 20426, or by calling (202) 208-1371.

The public meeting on March 27, 2000 (Monday), will be 7 p.m. to 10 p.m. at the Agri-Civic Center in Albemarle, North Carolina—26032 East Newt Road, Albemarle NC 28001- (704) 986-3666. All those who intend to provide oral comments at the public meeting should register (provide name only) prior to the meeting at the reception area in the Agri-Civic Center. If you have any questions regarding this notice, please call Steve Hocking at (202) 219-2656.

Linwood A. Watson, Jr.,
Acting Secretary.

[FR Doc. 00-3465 Filed 2-14-00; 8:45 am]

BILLING CODE 6717-01-M